FEDERAL MARITIME COMMISSION

[Docket No. 23-05]

Rahal International Inc., Complainant v. Hapag-Lloyd AG, Hapag-Lloyd (America), LLC, and Hapag-Lloyd USA, LLC, Respondents and Third-Party Complainants v. Maher Terminals, LLC, GCT New York LP, and GCT Bayonne PL, Third-Party Respondents; Notice of Filing of Third-Party Complaint

Served: September 8, 2023.

Notice is given that a third-party complaint has been filed with the Federal Maritime Commission (the “Commission”) by Hapag-Lloyd AG, Hapag-Lloyd (America), LLC, and Hapag-Lloyd USA, LLC (collectively, the “Third-Party Complainants”) against Maher Terminals, LLC, GCT New York LP, and GCT Bayonne PL (collectively, the “Third-Party Respondents”) in Docket No. 23-05. Third-Party Complainants state that the Commission has subject-matter jurisdiction over the third-party complaint under the Shipping Act of 1984, as amended, 46 U.S.C. 40101 et seq. (the “Shipping Act”), 46 CFR 502.12, and 46 CFR 502.62(b)(4), and further state that the Commission has personal jurisdiction over the Third-Party Respondents due to an alleged violation of the Shipping Act and the third-party claims arising out of a common nucleus of operative facts as those against Hapag-Lloyd AG, Hapag-Lloyd (America), LLC, and Hapag-Lloyd USA, LLC.

Complainant Rahal International Inc. is an independent importer and broker of high-quality fruit juices, concentrates, and purees in the United States, and is organized and existing under the laws of the state of Delaware with a principal place of business in Oak Brook, Illinois.

Respondent and Third-Party Complainant Hapag-Lloyd AG is a global ocean carrier company based in Hamburg, Germany.

Respondent and Third-Party Complainant Hapag-Lloyd (America), LLC is a United States subsidiary and agent of Hapag-Lloyd AG with its office located in Atlanta, Georgia.

Respondent and Third-Party Complainant Hapag-Lloyd USA, LLC is a United States subsidiary and agent of Hapag-Lloyd AG with its office located in Atlanta, Georgia.

Third-Party Complainants identify Third-Party Respondent Maher Terminals, LLC as a marine terminal operator located in Elizabeth, New Jersey. Third-Party Complainants identify Third-Party Respondents GCT New York LP and GCT Bayonne LP as a marine terminal operator located in Staten Island, New York.

Third-Party Complainants allege that Third-Party Respondents violated 46 U.S.C. 41102(c) regarding a failure to establish, observe, and enforce just and reasonable regulations and practices related to or connected with receiving, handling, storing, or delivering property. Third-Party Complainants allege this violation arose from Third-Party Respondents' full control and operation of the containers and their assessment, billing, and collection of the charges at issue in Complainant Rahal International Inc.'s Verified Complaint (the “Verified Complaint”), and seek, in the event that the Commission finds Third-Party Complainants liable under the Verified Complaint, an order requiring Third-Party Respondents to pay for all damages assessed as a result of the Verified Complaint, along with attorneys' fees.

An answer to the third-party complaint must be filed with the Commission within twenty-five (25) days after the date of service.

The full text of the third-party complaint can be found in the Commission's electronic Reading Room at https://www2.fmc.gov/readingroom/proceeding/23-05/. This proceeding is assigned to the Office of Administrative Law Judges. The initial decision of the presiding judge shall be issued by July 1, 2024, and the final decision of the Commission shall be issued by January 15, 2025.

Jason Guthrie,
Federal Register Alternate Liaison Officer, Federal Maritime Commission.

[FR Doc. 2023-20037 Filed 9-14-23; 8:45 am]

BILLING CODE 6730-02-P